Title 3—

The President

Proclamation 9071 of December 16, 2013

Wright Brothers Day, 2013

By the President of the United States of America

A Proclamation

On December 17, 1903, decades of dreaming, experimenting, and careful engineering culminated in 12 seconds of flight. Wilbur and Orville Wright's airplane soared above the wind-blown banks of Kitty Hawk, North Carolina, pushing the boundaries of human imagination and paving the way for over a century of innovation. On Wright Brothers Day, our Nation commemorates this once unthinkable achievement. We celebrate our scientists, engineers, inventors, and all Americans who set their sights on the impossible.

America has always been a Nation of strivers and creators. As our next generation carries forward this proud tradition, we must give them the tools to translate energy and creativity into concrete results. That is why my Administration is dedicated to improving education in the vital fields of science, technology, engineering, and mathematics (STEM). We are working to broaden participation among underrepresented groups, and through Race to the Top, we are raising standards and making STEM education a priority. Last year, we announced plans to create a national STEM Master Teacher Corps—a group of the best STEM teachers in the country, who will receive resources to mentor fellow educators, inspire students, and champion STEM education in their communities.

As we remember the Wright brothers, let us not forget another Wright who took up the mission of powered flight. Orville and Wilbur's sister, Katharine, used her teacher's salary to support the family and ran the Wrights' bicycle shop in Dayton, Ohio, while her brothers worked in Kitty Hawk. She went on to manage press, conduct business with foreign dignitaries and heads of state, and wrangle support for the burgeoning aviation enterprise. Today, let all of us draw inspiration from a family who taught us that when bold ideas meet scientific thinking and tireless experimentation, the sky is no limit.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2013, as Wright Brothers Day.

IN WITNESS WHEREOF, I have hereunto set my hand this sixteenth day of December, in the year of our Lord two thousand thirteen, and of the Independence of the United States of America the two hundred and thirty-eighth.

[FR Doc. 2013-30463

Filed 12-18-13; 11:15 am]

Billing code 3295-F4